SECURITIES AND EXCHANGE COMMISSION

[Release No. 35-27843]

Filings Under the Public Utility Holding Company Act of 1935, as Amended (“Act”)

May 3, 2004.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by May 24, 2004, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After May 24, 2004, the application(s) and/or declaration(s), as filed or as amended, may be granted and/or permitted to become effective.

Enron Corp., et al. (70-10200)

Enron Corp. (“Enron”), Four Houston Center, 1221 Lamar, Suite 1600, Houston, Texas 77010-1221, a registered holding company, on its behalf and on behalf of its subsidiaries, including Portland General Electric Company (“Portland General”), a public utility company, 121 Salmon Street, Portland, Oregon 97204 (collectively, “Applicants”) has filed a post-effective amendment to an application-declaration (“Application”) under sections 6(a), 7, 12(b), 12(c) of the Act and rule 45, 46 and 54 under the Act.¹

¹ Applicants include both debtor and non-debtor subsidiaries of Enron.

On February 6, 2004, as amended on March 9, 2004, Applicants filed with the Commission an application-declaration on Form U-1 under File No. 70-10200 (the “Omnibus Application”).² On March 9, 2004, the Commission issued an order granting the relief requested by Applicants in the Omnibus Application. In this Application, Applicants seek a supplemental order authorizing: Revisions to the list of Applicants and Enron to issue letters of credit in connection with the expiration of the second amended debtor in possession credit agreement.

² Holding Co. Act Release No. 27809.

Enron states that some of its subsidiaries were inadvertently excluded from the list of Applicants in Exhibit H of the Omnibus Application (“Omitted Subsidiaries”). Enron requests that the Commission issue a supplemental order confirming that these nonutility subsidiaries of Enron also are entitled to the relief granted to other Enron nonutility subsidiaries in connection with the Omnibus Application. Enron also is submitting an amended Exhibit H, which includes the companies below as Applicants. Amended Exhibit H also reflects the deletion of companies which have been dissolved or sold and the reorganization of certain subsidiaries in connection with various reorganizations.

The Omitted Subsidiaries are Dais-Analytic, Inc., Encorp, Inc., FSMx.com, Inc., Serveron, Corp., Venoco, Inc., 217 State Street, Inc., Ellwood Pipeline Inc., Whittier Pipeline Corporation, Inc., BMC, Ltd., Advanced Mobile Power Systems, LLC, Unkwang Gas Industry Co., Ltd, and PEI Venezuela Services LLC.

The second amended debtor in possession credit agreement will expire on June 3, 2004. Enron may decide against renewing/extending the second amended debtor in possession credit agreement; however, Enron would have to extend or replace the letters of credit that are currently outstanding under the second amended debtor in possession credit agreement.

Applicants request authority for Enron to (i) obtain up to $25,000,000.00, in the aggregate, in new, cash collateralized letters of credit to replace the letters of credit currently outstanding under the second amended debtor in possession credit agreement, (ii) to obtain a new debtor in possession credit agreement that would allow Enron to issue letters of credit in an amount not to exceed $25,000,000.00 in the event that Enron elects not to renew or extend the second amended debtor in possession credit agreement, or (iii) a combination of items (i) and (ii) above that would not, in the aggregate exceed an amount of $25,000,000.00. Any new letters of credit issued either as a stand alone obligation or pursuant to a new debtor in possession credit agreement would be obligations of Enron or obligations of Enron's nonutility subsidiaries (if a letter of credit is issued on behalf of such a subsidiary) and would not be guaranteed by Portland General or any other Enron subsidiary (other than a nonutility subsidiary on behalf of which a letter of credit is issued).

For the Commission, by the Division of Investment Management, pursuant to delegated authority.
Margaret H. McFarland,
Deputy Secretary.

[FR Doc. 04-10464 Filed 5-6-04; 8:45 am]

BILLING CODE 8010-01-P